NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 19, 2007 (Note that the new time period for requesting copies has changed from 45 to 30 days after publication). Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note that the new time period for requesting copies has changed from 45 to 30 days after publication):

1. Department of Homeland Security, National Protection and Programs Directorate (N1-563-07-8, 2 items, 2 temporary items). Inputs and master files of an electronic information system which contains information about participants who are authorized to use a critical data communications system. This schedule authorizes the agency to apply the proposed disposition instructions to any recordkeeping medium, except for master files.

2. Department of Homeland Security, National Protection and Programs Directorate (N1-563-07-12, 1 item, 1 temporary item). Master files for an electronic information system which contains information about participants who are authorized to use special telecommunications services when conventional communication services are ineffective or unavailable.

3. Department of Homeland Security, Office of Operations Coordination (N1-563-07-14, 2 items, 2 temporary items). Master files and outputs for an electronic information system which prepares and maintains a roster of personnel needed to ensure a minimum level of organizational performance. The schedule authorizes the agency to apply the proposed disposition instructions to any recordkeeping medium, except for master files.

4. Department of Homeland Security, Office of Operations Coordination (N1-563-07-15, 1 item, 1 temporary item). Master files for an electronic information system which tracks disruptive and threatening callers.

5. Department of Homeland Security, U.S. Coast Guard (N1-26-07-9, 1 item, 1 temporary item). Records documenting long-term medical, physical, psychological, mental or educational disability of all Coast Guard personnel's dependents. This schedule authorizes the agency to apply the proposed disposition instructions to any recordkeeping medium.

6. Department of the Interior, Office of the Secretary (N1 48-07-2, 6 items, 5 temporary items). Records of the Office of the Solicitor, including litigation files, legal advice files, working papers, finding aids, and reference materials. Proposed for permanent retention are recordkeeping copies of legal opinions.

7. Department of Justice, Federal Bureau of Investigation (N1-65-07-18, 1 item, 1 temporary item). Records relating to administrative standard operating procedures and instructions. This schedule authorizes the agency to apply the proposed disposition instructions to any recordkeeping medium.

8. Department of the Treasury, Internal Revenue Service (N1-58-07-11, 4 items, 4 temporary items). Regional, district, and headquarters criminal investigative case files and index.

9. Environmental Protection Agency, Office of Research and Development (N1-412-07-71, 31 items, 20 temporary items). This schedule authorizes the agency to apply the existing disposition instructions to records regardless of recordkeeping medium. The record series include water supply laboratory certification program files, employee exposure to ionizing radiation files. laboratory activity report files, case files related to basic, exploratory research, instrument and project logbooks, project status reports, non-decisional reference and background files, submissions from the public, work papers, and administrative correspondence files. Paper recordkeeping copies of these files were previously approved for disposal. Also included are record copies of program files from the environmental process and effects research program, environmental engineering and technology program, health research program, health and environmental assessment program, and health, risk and exposure assessment program, as well as integrated risk information system decision files, source dats files relating to radiological research projects, and research project files related to rulemaking, for which paper recordkeeping copies previously were approved as permanent.

10. Foreign Economic Administration, USSR Branch (N1-169-07-1, 7 items, 4 temporary items). Microfilm copies of requisitions, requisition cards, ships manifests, and worksheets and statistical lists on shipments. Proposed for permanent retention are microfilm copies of three series of subject files.

11. National Ocenic and Atmospheric Administration, National Weather Service (N1-370-07-6, 1 items, 1 temporary item). Magnetic tapes, 1970-71, that are unreadable because of age, absence of documentation, and lack of appropriate hardware, and which cover meteorological observations taken by aircraft serving the National Hurrican Research Laboratory.

Dated: October 11, 2007.
Michael J. Kurtz,
Assistant Archivist for Records Services—Washington, DC.

[FR Doc. E7-20524 Filed 10-17-07; 8:45 am]

BILLING CODE 7515-01-P